DEPARTMENT OF AGRICULTURE

National Agricultural Statistics Service

Notice of Intent to Seek Approval to Conduct an Information Collection

AGENCY: National Agricultural Statistics Service, USDA.

ACTION: Notice and request for comments.

SUMMARY: In accordance with the Paperwork Reduction Act of 1995 (Pub. L. 104-13) and Office of Management and Budget regulations at 5 CFR part 1320 (60 FR 44978, August 29, 1995), this notice announces the intent of the National Agricultural Statistics Service (NASS) to request approval for a new information collection, the 2002 Census of Agriculture Screening.

DATES: Comments on this notice must be received by February 3, 2001 to be assured of consideration.

ADDITIONAL INFORMATION OR COMMENTS: Contact Rich Allen, Associate Administrator, National Agricultural Statistics Service, U.S. Department of Agriculture, Room 4117 South Building, 1400 Independence Avenue SW, Washington, DC 20250-2001, (202) 720-4333.

SUPPLEMENTARY INFORMATION: Title: 2002 Census of Agriculture Screening.

Type of Request: Intent to Seek Approval to Conduct an Information Collection.

Abstract: The Census of Agriculture conducted every 5 years is the primary source of statistics concerning the nation's agricultural industry and provides the only basis for consistent, comparable data at the county, state, and national levels. To ensure that only active farms are included in the 2002 Census of Agriculture, operations on the census mail list that have an unknown farm status will be mailed a “screener” postcard prior to the full census. Response to the postcard will determine the operation's eligibility for the full census questionnaire. Identifying and removing non-farms from the census mail list will significantly reduce respondent burden and cost for the census. The screener postcard will be used in all states. Initial mail out is planned for late May 2002 with a follow-up mailing to non-respondents 6 weeks later. Response to this inquiry will be required by law under 7 U.S.C. 2204g. A voluntary, small-scale test will be conducted in May of 2001 to evaluate wording and the effect on the mail list. These data will be collected under the authority of 7 U.S.C. 2204(a). Individually identifiable data are governed by Section 1770 of the Food Security Act of 1985, 7 U.S.C. 2276, which requires USDA to afford strict confidentiality to non-aggregated data provided by respondents.

Estimate of Burden: This information collection consists of a letter and self-mailing postcard with six questions. Public reporting burden will be 2 minutes per refusal (non-response), 3 minutes per screen-out (questions 1-4, 6=No), and 4 minutes per positive response (question 5).

Respondents: Farm and ranch operators.

Estimated Number of Respondents: 751,500 (mail-out).

Estimated Total Annual Burden on Respondents: 40,080 hours.

Copies of this information collection and related instructions can be obtained without charge from Ginny McBride, the Agency OMB Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology. Comments may be sent to: Ginny McBride, Agency OMB Clearance Officer, U.S. Department of Agriculture, Room 5330B South Building, 1400 Independence Avenue SW, Washington, DC 20250-2009 or gmcbride@nass.usda.gov. All responses to this notice will become a matter of public record and be summarized in the request for OMB approval.

Signed at Washington, DC., November 9, 2000.
Rich Allen,
Associate Administrator.

[FR Doc. 00-30426 Filed 11-28-00; 8:45 am]

BILLING CODE 3410-20-P